DEPARTMENT OF TRANSPORTATION

Pipeline and Hazardous Materials Safety Administration

[Docket No. PHMSA-2022-0124]

Pipeline Safety: Liquefied Natural Gas (LNG) Research and Development (R&D) Public Meeting and Forum

AGENCY: Pipeline and Hazardous Materials Safety Administration (PHMSA), DOT.

ACTION: Notice of virtual public meeting and forum.

SUMMARY: This notice announces a virtual public meeting and forum titled: “Liquefied Natural Gas Research and Development Public Meeting and Forum.” The public meeting and forum will serve as an opportunity for pipeline stakeholders to discuss research gaps and challenges in the LNG industry. Furthermore, it will also serve as a venue for PHMSA, public interest groups, industry, academia, intergovernmental partners, and the public to collaborate on PHMSA's future R&D agenda.

DATES: The LNG R&D Public Meeting and Forum will be held on November 15 and 16, 2022. Members of the public who wish to attend the public meeting and forum must register by November 14, 2022. Individuals requiring accommodations, such as sign language interpretation or other aids, are asked to notify PHMSA no later than November 9, 2022. Individuals will be able to sign up to participate in specific workgroups by November 7, 2022, on a first come first serve basis. To facilitate a collaborative and productive discussion in the working groups, each working group will have a maximum capacity of 50 participants.

ADDRESSES: This public meeting and forum will be held virtually. The agenda and instructions on how to attend will be published once they are finalized on the following public meeting registration page: https://primis.phmsa.dot.gov/meetings/MtgHome.mtg?mtg=162. Presentations will be available on the meeting website and on the E-gov website, https://regulations.gov, at docket number PHMSA-2022-0124, no later than 30 days following the meeting. You may submit comments, identified by Docket No. PHMSA-2022-0124, by any of the following methods:

• E-Gov Web: http://www.regulations.gov. This site allows the public to enter comments on any Federal Register notice issued by any agency. Follow the online instructions for submitting comments.

• Mail: Docket Management System: U.S. Department of Transportation (DOT), 1200 New Jersey Avenue SE, West Building Ground Floor, Room W12-140, Washington, DC 20590-0001.

• Hand Delivery: DOT Docket Management System: West Building Ground Floor, Room W12-140, 1200 New Jersey Avenue SE, between 9:00 a.m. and 5:00 p.m. ET, Monday through Friday, except Federal holidays.

• Fax: 202-493-2251.

• Instructions: Identify the Docket No. PHMSA-2022-0124, at the beginning of your comments. If you submit your comments by mail, please submit two copies. If you wish to receive confirmation that PHMSA received your comments, you must include a self-addressed stamped postcard. Internet users may submit comments at: http://www.regulations.gov.

• Note: All comments received are posted without edits to http://www.regulations.gov, including any personal information provided. Please see the Privacy Act heading below.

• Confidential Business Information: Confidential Business Information (CBI) is commercial or financial information that is both customarily and actually treated as private by its owner. Under the Freedom of Information Act (5 U.S.C. 552), CBI is exempt from public disclosure. If your comments in response to this notice contain commercial or financial information that is customarily treated as private, that you actually treat as private, and that is relevant or responsive to this notice, it is important that you clearly designate the submitted comments as CBI. Pursuant to 49 Code of Federal Regulations (CFR) 190.343, you may ask PHMSA to provide confidential treatment to information you give to the agency by taking the following steps: (1) mark each page of the original document submission containing CBI as “Confidential;” (2) send PHMSA a copy of the original document with the CBI deleted along with the original, unaltered document; and (3) explain why the information you are submitting is CBI. Submissions containing CBI should be sent to Kandilarya Barakat, 1200 New Jersey Avenue SE, DOT: PHMSA—PHP-80, Washington, DC 20590-0001. Any commentary PHMSA receives that is not specifically designated as CBI will be placed in the public docket.

• Privacy Act: DOT may solicit comments from the public regarding certain general notices. DOT posts these comments, without edit, including any personal information the commenter provides, to www.regulations.gov, as described in the system of records notice (DOT/ALL-14 FDMS), which can be reviewed at www.dot.gov/privacy.

• Docket: For access to the docket to read background documents or comments received, go to http://www.regulations.gov. Follow the online instructions for accessing the dockets. Alternatively, you may review the documents in person at the street address listed above.

FOR FURTHER INFORMATION CONTACT: Robert Smith by phone at 202-330-1132 or via email at robert.w.smith@dot.gov.

SUPPLEMENTARY INFORMATION:

I. Background

The mission of PHMSA is to protect people and the environment by advancing the safe transportation of energy products and other hazardous materials that are essential to our daily lives. PHMSA oversees the transportation of hazardous materials, including energy products, through all modes of the transportation industry—and is focused on the Biden-Harris Administration's whole-of-government approach to addressing safety, mitigating climate change, and improving the environment. PHMSA collaborates with stakeholders from the public, academia, interagency, international partners, and pipeline industry that share PHMSA's goal of advancing knowledge and technology in the pursuit of improved LNG facility safety. PHMSA's research agenda will adapt to address existing and future LNG safety initiatives such as addressing performance-based risk reduction during site location, design, construction, operations, maintenance, and fire protection, and methane mitigation activities.

Due to the importance of energy products and other hazardous materials to our economy and standard of living, it is essential that research projects promote safety, environmental protection, and reliable and efficient performance of our transportation system. The United States has experienced a significant increase in LNG export over the last decade. The expansion of the domestic and international LNG transportation industry has highlighted the need to ensure the U.S. is leading the world with best safety and environmental mitigation practices. According to the U.S. Energy Information Administration (EIA), “U.S. LNG export capacity increased from less than 1 billion cubic feet (Bcf) per day (Bcf/d) in 2015 to 10.78 Bcf/d at the end of 2020. Total peak export capacity in 2021 was about 12.98 Bcf/d. In 2015, total U.S. LNG exports were about 28 Bcf to seven countries. In 2021, U.S. LNG exports reached a record high of about 3,561 Bcf to 45 countries, and LNG exports accounted for 54% of total U.S. natural gas exports.” ¹

¹ https://www.eia.gov/energyexplained/natural-gas/liquefied-natural-gas.php (updated as of May 19, 2022).

This expansion of LNG demand is expected to continue in the near term and brings with it additional safety challenges which must be understood and remedied to mitigate safety impacts and potential environmental damage from releases and incidents. Therefore, LNG transportation research will examine regulatory requirements and standards incorporated into the Code of Federal Regulations (CFR) for LNG and performance gap analyses so as to keep pace with the growing demand to export LNG. In addition, future research outputs must consider LNG's status as an alternate transportation fuel for multiple modes of transportation particularly as operators transition from conventional oil-based fuels to LNG for marine vessels in order to reduce air pollution.

To this end, PHMSA hopes to discuss and receive public feedback in four areas: (1) LNG facility design and construction, including process, piping, and control system design; process hazard analysis; vapor handling; structural members; and construction testing requirements; (2) LNG facility siting, including passive and active protection and potential safety gaps in 49 CFR 193 and industry technical standards; (3) LNG facility fire protection system design, including firewater system design, fire and gas detection technology, emergency shutdown systems, and hazard controls; and (4) LNG operation and maintenance, including plans and procedures (best practices), safe work practices, human factors, incident investigation and reporting, reporting requirements, inspection and testing, maintenance and repairs—including fugitive and vented methane emissions mitigation, corrosion protection, and personnel protection.

II. Public Meeting and Forum Details and Agenda

The virtual meeting and forum will take place November 15 and 16, 2022. The morning of the first day of the virtual public meeting will include a general session with panel discussions among government, industry, research consortiums, and environmental advocacy stakeholders on LNG facility safety R&D research topics. The afternoon of the first day and the entirety of the second day will be the virtual public forum which will consist of smaller workgroups that members of the public will have an opportunity to sign up for in advance. The workgroups will explore the specific research gaps and topics discussed above in Section I.

III. Public Participation

The virtual public meeting and forum will be open to the public. Members of the public who wish to attend must register on the meeting website, including their names and organization affiliation. PHMSA is committed to providing all participants with equal access to these meetings. If you need disability accommodations, please contact Robert Smith by phone at 202-330-1132 or via email at robert.w.smith@dot.gov.

PHMSA is not always able to publish a notice in the Federal Register quickly enough to provide timely notification of last-minute changes that impact scheduled meetings. Therefore, individuals should check the meeting website listed in the ADDRESSES section of this notice or contact Robert Smith by phone at 202-330-1132 or via email at robert.w.smith@dot.gov regarding any possible changes.

PHMSA invites public participation and public comment on the topics addressed in this public meeting and forum. Please review the ADDRESSES section of this notice for information on how to submit written comments.

Issued in Washington, DC, under authority delegated in 49 CFR 1.97.
Alan K. Mayberry,
Associate Administrator for Pipeline Safety.

[FR Doc. 2022-23147 Filed 10-24-22; 8:45 am]

BILLING CODE 4910-60-P